ENVIRONMENTAL PROTECTION AGENCY

[EPA-HQ-OPP-2015-0393; FRL-9958-71]

Registration Review Draft Risk Assessments for Linuron and Several Pyrethroids; Re-opening of Comment Period

AGENCY: Environmental Protection Agency (EPA).

ACTION: Notice; re-opening of comment period.

SUMMARY: In the Federal Register of November 29, 2016, EPA announced the availability of and solicited public comment on the registration review draft risk assessments for a number of pesticide chemicals, including several pyrethroid insecticides listed in Table 1 of Unit II. and the herbicide linuron listed in Table 2 of Unit II. This document re-opens the comment period on the ecological risk assessment for the pyrethroid chemicals for 60 days; and re-opens the comment period on the human health and ecological risk assessments for the chemical linuron for 30 days. EPA is re-opening these comment periods in response to a number of extension requests received from various stakeholders who have cited reasons including the difficulty of commenting due to the length, quantity, and complexity of the assessments for these particular chemicals, in addition to resource and time constraints.

DATES: Comments must be received on or before July 7, 2017 for the ecological risk assessment for the pyrethroid chemicals listed in Table 1 of Unit II.; and on or before June 7, 2017 for the human health and ecological risk assessments for the chemical linuron listed in Table 2 of Unit II.

ADDRESSES: Submit your comments, identified by the relevant chemical-specific docket identification (ID) number(s) from Table 1 and Table 2 of Unit II., using the Federal eRulemaking Portal at http://www.regulations.gov. Follow the online instructions for submitting comments. Do not submit electronically any information you consider to be Confidential Business Information (CBI) or other information whose disclosure is restricted by statute. See also the detailed instructions provided under ADDRESSES in the Federal Register document of November 29, 2016 (81 FR 85952) (FRL-9953-53).

FOR FURTHER INFORMATION CONTACT: For pesticide specific information contact: The Chemical Review Manager for the pesticide of interest identified in Tables of Unit II. For questions about the pyrethroid chemicals contact: Garland Waleko, Re-Evaluation Division (7508P), Office of Pesticide Programs, Environmental Protection Agency, 1200 Pennsylvania Ave. NW., Washington, DC 20460-0001; telephone number: (703) 308-8049; email address: waleko.garland@epa.gov. For questions about linuron contact: Katherine St. Clair, Re-Evaluation Division (7508P), Office of Pesticide Programs, Environmental Protection Agency, 1200 Pennsylvania Ave. NW., Washington, DC 20460-0001; telephone number: (703) 347-8778; email address: stclair.katherine@epa.gov.

SUPPLEMENTARY INFORMATION:

I. What is the EPA Authority for this action?

EPA is conducting its registration review of these chemicals pursuant to section 3(g) of the Federal Insecticide, Fungicide, and Rodenticide Act (FIFRA) and the Procedural Regulations for Registration Review at 40 CFR part 155, subpart C.

II. What action is the Agency taking?

This document re-opens the public comment periods established for linuron and several pyrethroids in the Federal Register document of November 29, 2016 (81 FR 85952) (FRL-9953-53). In that Federal Register document, EPA announced the availability of and sought public comment on the registration review draft risk assessments for a number of pesticide chemicals, including several pyrethroids and linuron. The comment period closed on January 30, 2017. For the pyrethroid chemicals listed in Table 1, EPA is hereby re-opening the comment period on the ecological risk assessment for 60 days, until July 7, 2017. For the chemical linuron listed in Table 2, EPA is hereby re-opening the comment period on the human health and ecological risk assessments for 30 days, until June 7, 2017. EPA is taking these actions in response to a number of extension requests received from various stakeholders who have cited reasons including the difficulty of commenting due to the length, quantity, and complexity of the assessments for these particular chemicals.

Table 1—Pyrethroids Ecological Risk Assessment
Registration review case name and No. | Docket ID No. | Chemical review manager and contact information
Bifenthrin, 7402 | EPA-HQ-OPP-2010-0384 | Marquea King, king.marquea@epa.gov, 703-305-7432.
Cyfluthrins (& beta), 7405 | EPA-HQ-OPP-2010-0684 | Garland Waleko, waleko.garland@epa.gov, 703-308-8049.
Cypermethrin (alpha & zeta), 7218/2130 | EPA-HQ-OPP-2012-0167 | Susan Bartow, bartow.susan@epa.gov, 703-603-0065.
Cyphenothrin, 7412 | EPA-HQ-OPP-2009-0842 | Margaret Hathaway, hathaway.margaret@epa.gov, 703-305-5076.
D-phenothrin, 0426 | EPA-HQ-OPP-2011-0539 | James Parker, parker.james@epa.gov, 703-306-0469. Rachel Ricciardi, ricciardi.rachel@epa.gov, 703-347-0465.
Deltamethrin, 7414 | EPA-HQ-OPP-2009-0637 | Bilin Basu, basu.bilin@epa.gov, 703-347-0455.
Esfenvalerate, 7406 | EPA-HQ-OPP-2009-0301 | Marianne Mannix, mannix.marianne@epa.gov, 703-347-0275.
Etofenprox, 7407 | EPA-HQ-OPP-2007-0804 | Wilhelmena Livingston, livingston.wilhelmena@epa.gov, 703-308-8025.
Fenpropathrin, 7601 | EPA-HQ-OPP-2010-0422 | Garland Waleko, waleko.garland@epa.gov, 703-308-8049.
Flumethrin, 7456 | EPA-HQ-OPP-2016-0031 | Maria Piansay, piansay.maria@epa.gov, 703-308-8063.
Gamma-cyhalothrin, 7437 | EPA-HQ-OPP-2010-0479 | Wilhelmena Livingston, livingston.wilhelmena@epa.gov, 703-308-8025.
Imiprothrin, 7426 | EPA-HQ-OPP-2011-0692 | Margaret Hathaway, hathaway.margaret@epa.gov, 703-305-5076.
Lambda-cyhalothrin, 7408 | EPA-HQ-OPP-2010-0480 | Wilhelmena Livingston, livingston.wilhelmena@epa.gov, 703-308-8025.
Momfluorothrin, 7457 | EPA-HQ-OPP-2015-0752 | Bilin Basu, basu.bilin@epa.gov, 703-347-0455.
Permethrin, 2510 | EPA-HQ-OPP-2011-0039 | Brittany Pruitt, pruitt.brittany@epa.gov, 703-347-0289.
Prallethrin, 7418 | EPA-HQ-OPP-2011-1009 | Wilhelmena Livingston, livingston.wilhelmena@epa.gov, 703-308-8025.
Pyrethrins, 2580 | EPA-HQ-OPP-2011-0885 | Veronica Dutch, dutch.veronica@epa.gov, 703-308-8585.
Tau-fluvalinate, 2295 | EPA-HQ-OPP-2010-0915 | Miguel Zavala, zavala.miguel@epa.gov, 703-347-0504.
Tefluthrin, 7409 | EPA-HQ-OPP-2012-0501 | Marianne Mannix, mannix.marianne@epa.gov, 703-347-0275.
Tetramethrin, 2660 | EPA-HQ-OPP-2011-0907 | Nathan Sell, sell.nathan@epa.gov, 703-347-8020.

Table 2—Linuron Human Health and Ecological Risk Assessments
Registration review case name and No. | Docket ID No. | Chemical review manager and contact information
Linuron, 0047 | EPA-HQ-OPP-2010-0228 | Katherine St. Clair, stclair.katherine@epa.gov, 703-347-8778.

III. How should comments, data and information be submitted?

EPA is providing another opportunity under 40 CFR 155.53(c) for interested parties to provide comments and input concerning the Agency's draft human health and ecological risk assessments for the chemicals identified in this document. Such comments and input could address, among other things, the Agency's risk assessment methodologies and assumptions, as applied to a draft risk assessment. The Agency will consider all comments received during the public comment periods and make changes, as appropriate, to a draft human health and/or ecological risk assessment. EPA will then issue a revised risk assessment, explain any changes to the draft risk assessment, and respond to comments.

As indicated in the November 29, 2016 Federal Register document, anyone may submit data or information in response to this document. To be considered during a pesticide's registration review, the submitted data or information must meet the requirements enumerated in that document. To submit comments, or access the dockets, please follow the detailed instructions provided under ADDRESSES in the Federal Register document of November 29, 2016. If you have questions, consult the persons listed under FOR FURTHER INFORMATION CONTACT.

Authority: 7 U.S.C. 136 et seq.

Dated: February 2, 2017,
Yu-Ting Guilaran,
Director, Pesticide Re-Evaluation Division, Office of Pesticide Programs.

[FR Doc. 2017-09179 Filed 5-5-17; 8:45 am]

BILLING CODE 6560-50-P